NUCLEAR REGULATORY COMMISSION

[Docket No. NRC-2009-0219]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on June 9, 2009.

1. Type of submission, new, revision, or extension: Revision.

2. The title of the information collection: Reports Concerning Possible Non-Routine Emergency Generic Problems.

3. Current OMB approval number: 3150-0012.

4. The form number if applicable: Not applicable.

5. How often the collection is required: On occasion.

6. Who will be required or asked to report: Nuclear power reactor licensees, research and test reactors, and materials applicants and licensees.

7. An estimate of the number of annual responses: 340.

8. The estimated number of annual respondents: 236.

9. An estimate of the total number of hours needed annually to complete the requirement or request: 86,000.

10. Abstract: If the NRC determines that a specific event or issue at a nuclear facility may have an immediate, significant generic implication, i.e., that the event or issue has or might have the potential for an immediate occurrence at other facilities and that the occurrence is a threat to public health, safety, to the common defense, and/or the environment, the NRC could issue an emergency non-routine request that requires the collection and reporting of information to the NRC in usually less than 30 days. These issuances could include Bulletins and other forms of generic communication.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by October 5, 2009. Comments received after this date will be considered if it is practical to do so, but assurance of consideration cannot be given to comments received after this date.

NRC Desk Officer, Office of Information and Regulatory Affairs (3150-0012), NEOB-10202, Office of Management and Budget, Washington, DC 20503.

The Acting NRC Clearance Officer is Tremaine Donnell, (301) 415-6258.

Dated at Rockville, Maryland, this 26th day of August 2009.
For the Nuclear Regulatory Commission.
Tremaine Donnell,
Acting NRC Clearance Officer, Office of Information Services.

[FR Doc. E9-21283 Filed 9-2-09; 8:45 am]

BILLING CODE 7590-01-P